DEPARTMENT OF HEALTH AND HUMAN SERVICES

Administration for Children and Families

Privacy Act of 1974; Matching Program

AGENCY: Administration for Children and Families, Department of Health and Human Services.

ACTION: Notice of a new matching program.

SUMMARY: In accordance with subsection (e)(12) of the Privacy Act of 1974, as amended, the Department of Health and Human Services (HHS), Administration for Children and Families (ACF), ACF Tech, is providing notice of a re-established matching program between the Department of Veterans Affairs (VA) and State Public Assistance Agencies (SPAAs) participating in the Public Assistance Reporting Information System (PARIS) Program. The matching program provides the SPAAs with VA's compensation and pension data on a periodic basis to use in determining public assistance applicants' and recipients' eligibility for certain public assistance benefits. ACF Tech facilitates the matching program, and the Department of Treasury, Bureau of Fiscal Services, Do Not Pay (DNP) conducts the matches of SPAA and VA data and provides associated support.

DATES: The deadline for comments on this notice is November 21, 2025. The re-established matching program will commence not sooner than 30 days after publication of this notice, provided no comments are received that warrant a change to this notice. The matching program will be conducted for an initial term of 18 months (from approximately October 2025 through May 2026), and within 3 months of expiration may be renewed for 1 additional year if the parties make no change to the matching program and certify that the program has been conducted in compliance with the matching agreement.

ADDRESSES: Interested parties may submit written comments on this notice by mail or email to HHS/ACF Tech, 330 C Street SW, Washington, DC 20024, paris@acf.hhs.gov.

FOR FURTHER INFORMATION CONTACT: General questions about the matching program may be submitted to Robin Colllins, Chief Information Officer and Acting Chief Technology Officer, ACF Tech, 330 C Street SW, Washington, DC 20024, paris@acf.hhs.gov.

SUPPLEMENTARY INFORMATION: The Privacy Act of 1974, as amended (5 U.S.C. 552a), provides certain protections for records related to individuals applying for and receiving Federal benefits. The law governs the use of computer matching by Federal agencies when records in a system of records (meaning, Federal agency records about individuals retrieved by name or other personal identifier) are matched with records of other Federal or non-Federal agencies. The Privacy Act requires agencies involved in a matching program to the following:

1. Obtain approval of a Computer Matching Agreement, prepared in accordance with the Privacy Act, by the Data Integrity Board of each Federal agency that is a source, or recipient of data used in the matching program. 5 U.S.C. 522a(o)(1), (u)(3)(A), and (u)(4).

2. Provide adequate advance notice of the matching program, including a copy of the agreement, to Congress and the Office of Management and Budget (OMB). 5 U.S.C. 552a(o)(2)(A)(i) and (r).

3. Publish advance notice of the matching program in the Federal Register. 5 U.S.C. 552a(e)(12).

4. Make the Computer Matching Agreement available to the public. 5 U.S.C. 552a(o)(2)(A)(ii).

5. Notify the individuals whose information will be used in the matching program that the information they provide is subject to verification through matching, as required by 5 U.S.C. 552a(o)(1)(D).

6. Verify match findings before suspending, terminating, reducing, or making a final denial of an individual's benefits or payments, or taking other adverse action against the individual, as required by 5 U.S.C. 552a(p).

7. Provide an annual report of the matching program activities to the head of the participating agency and OMB and make the report available to the public. 5 U.S.C. 552a(u)(3)(D).

This matching program meets these requirements.

Dated: October 20, 2025.
Robin Collins,
Chief Information Officer and Acting Chief Technology Officer, ACF.

Participating Agencies

The Department of Veterans Affairs (VA) is the source agency and State Public Assistance Agencies (SPAAs) are non-Federal agencies.

Authority for Conducting the Matching Program

Sections 402(a), 1137, and 1903(r) of the Social Security Act (42 U.S.C. secs. 602(a), 1320b-7, and 1396b(r)).

Purpose(s)

The matching program will provide participating SPAAs with VA's compensation and pension data on a periodic basis to use in determining public assistance applicants' and recipients' eligibility for benefits under the Medicaid, Temporary Assistance for Needy Families (TANF), Supplemental Nutrition Assistance Program (SNAP), and general assistance programs, and to use in helping relevant veterans to better understand similar benefits available through the VA that may be better alternatives. The matching program helps ensure fair and equitable treatment in the delivery of benefits attributable to funds provided by the Federal Government.

Categories of Individuals

The categories of individuals involved in the matching program are the following:

• Individuals applying for or receiving Medicaid, TANF, SNAP, and/or general assistance benefits (public assistance clients); and

• Individuals receiving VA pay or pension benefits.

Categories of Records

The categories of records used in the matching program are identifying information, compensation, and pension data.

On an approximately quarterly basis, VA will provide DNP with a file containing VA benefit record data for most VA benefit and compensation recipients. SPAAs will also provide DNP with a non-Federal file containing identifying information, including Social Security Numbers (SSNs), about public assistance clients. DNP will compare the SSNs in each SPAA file to the VA file and will provide the SPAA with match results containing the following data elements (as applicable) about each public assistance client whose SSN matches the SSN of an individual receiving VA compensation or pension benefits:

VA File Number; Veteran/Beneficiary/Apportionee SSN and SSN Verification Indicator; Payee Type Code; Award Type, Award Line Type, and Award Status Codes; Gender Code; Last Name/First Name/Middle Name; Beneficiary Birth Date; Veteran/Spouse Aid and Attendance Code; Station Number; Spouse; Minor Child; School Child; Helpless Child; Parent; Combined Degree; Entitlement Type Code; Change Reason; Suspense Reason; Last Paid Date; Effective Date; Gross Amount; Net Award Amount; Payment Amount; Frequency Pay Type Code; Income for VA Purposes Amount; Beneficiary/Spouse Annual Amounts (for Wages, Insurance, Interest, Social Security, Civil Service Retirement, Military, Railroad Retirement Board, Black Lung, and Rest); Beneficiary/Spouse Rest of Exclusion Amount; Medical Expense/Education Expense/Last Expense/Hardship Amounts; Receivable/Receivable Amount; Monthly Deductions/Deduction Amount; Proceeds/Proceeds Amount; Address Type Indicator; Address Name/Fiduciary; Address Fiduciary Type; Address Name Beneficiary; Corporate Format Address (Address Lines One, Two, and Three, City Name, State Name, ZIP Code Prefix and Suffix, Country Type Name, Foreign Postal Code, Province Name, Territory Name, Military Postal Type, Military Post Office); and, Benefits Delivery Network Treasury Address and ZIP Code Prefix.

System(s) of Records

The VA data used in this matching program will be disclosed from the following system of records, as authorized by routine use 35: “Compensation, Pension, Education, and Vocational Rehabilitation and Employment Records—VA (58VA21/22/28),” 86 FR 61858 (Nov. 8, 2021).

[FR Doc. 2025-19630 Filed 10-21-25; 8:45 am]

BILLING CODE 4184-79-P